DEPARTMENT OF COMMERCE

International Trade Administration

Correction to Proposed Methodology for Respondent Selection in Antidumping Proceedings; Request for Comment

AGENCY: Import Administration, International Trade Administration, Department of Commerce.

FOR FURTHER INFORMATION CONTACT: Shauna Biby, Senior Import Policy Analyst, Office of Policy, Import Administration, U.S. Department of Commerce, 14th Street and Constitution Avenue, NW., Washington, DC 20230; telephone: (202) 482-4267.

Correction and Clarification

On December 16, 2010, the Department of Commerce published in the Federal Register the following notice: Proposed Methodology for Respondent Selection in Antidumping Proceedings; Request for Comment, 75 FR 78678 (Dec. 16, 2010) (Respondent Selection Notice). After the publication of the Respondent Selection Notice, we identified an inadvertent error in this notice. Specifically, we inadvertently listed the deadline to file comments as both 30 days and 45 days following publication. The correct deadline for filing comments is 45 days after publication (i.e., January 30, 2011). Because this date falls on a weekend, the deadline for filing comments is January 31, 2011.

Dated: December 17, 2010.
Ronald K. Lorentzen,
Deputy Assistant Secretary for Import Administration.

[FR Doc. 2010-32342 Filed 12-22-10; 8:45 am]

BILLING CODE 3510-DS-P